DEPARTMENT OF JUSTICE

Office of Justice Programs

Office of Juvenile Justice and Delinquency Prevention

Agency Information Collection Activities: Extension of a Currently Approved Collection; Comment Request

ACTION: 30-day notice of information collection under review: National Crime Victimization Survey (NCVS).

The U.S. Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register, Volume 71, Number 54, page 14252, on March 21, 2006 allowing for a 60-day comment period.

The purpose of this notice is to allow for an additional 30 days for public comment until July 21, 2006. This process is conducted in accordance with 5 CFR 1320.10.

Written comments and/or suggestions regarding the items contained in this notice, especially the estimated public burden and associated response time, should be directed to the Office of Management and Budget, Office of Information and Regulatory Affairs, Attention: Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of informaton technology; e.g., permitting electronic submission of responses.

Overview of this Information Collection:

(1) Type of Information Collection: Extension of a currently approved collection.

(2) Title of the Form/Collection: National Crime Victimization Survey.

(3) Agency form number, if any, and the applicable component of the Department sponsoring the collection: NCVS-110, NCVS-554, NCVS-554(SP), NCVS-572(L), NCVS-573(L), NCVS-592(L), NCVS-593(L), NCVS-592(L) SP/KOR/CHIN(T), CHIN(M), VIET.

(4) Affected public who will be asked or required to respond, as well as a brief abstract: Primary: Persons 12 years or older living in NCVS sampled households located throughout the United States. The National Crime Victimization Survey (NCVS) collects, analyzes, publishes, and disseminates statistics on the criminal victimization in the U.S.

(5) An estimate of the total number of respondents and the amount of time estimated for an average respondent to respond/reply: An estimate of the total number of respondents is 77,100. It will take the average interviewed respondent an estimated 23 minutes to respond, the average non-interviewed respondent an estimated 7 minutes to respond, the estimated average follow-up interview is 12 minutes, and the estimated average follow-up for a non-interview is 1 minute.

(6) An estimate of the total public burden (in hours) associated with the collection: The total respondent burden is approximately 62,620 hours.

If additional information is required, contact Robert B. Briggs, Department Clearance Officer, United States Department of Justice, Justice Management Division, Policy and Planning Staff, Patrick Henry Building, Suite 1600, 601 D Street, NW., Washington, DC 20530.

Dated: June 15, 2006.
Robert B. Briggs,
Department Clearance Officer, Department of Justice.

[FR Doc. 06-5564 Filed 6-20-06; 8:45 am]

BILLING CODE 4410-18-M